DEPARTMENT OF TRANSPORTATION

Federal Aviation Administration

Personnel Parachute Assemblies TSO-C23e

AGENCY: Federal Aviation Administration, DOT.

ACTION: Notice of cancellation.

SUMMARY: The minimum performance standard (MPS) for Personnel Parachute Assemblies and Components contained in Appendix 1 of technical standard order (TSO)-C23e is substantially different from the version submitted for public comment. As such, this notice announces the cancellation of TSO-C23e.

DATES: TSO-C23e is cancelled as of December 4, 2008.

ADDRESSES: Send all inquiries pertaining to the cancellation of TSO-23e to: Federal Aviation Administration, Aircraft Certification Service, Aircraft Engineering Division, Room 815, 800 Independence Avenue, SW., Washington, DC 20591. ATTN: George Soteropoulos, AIR-120. You may deliver your inquiries to: Federal Aviation Administration, Room 815, 800 Independence Avenue, SW., Washington, DC 20591. Include in the subject line of your electronic message the following: Inquiries, FAA TSO-23e, Personnel Parachute Assemblies.

FOR FURTHER INFORMATION CONTACT: George Soteropoulos, Aerospace Engineer, Federal Aviation Administration, Aircraft Certification Service, Aircraft Engineering Division, Technical Programs and Continued Airworthiness Branch, AIR-120, Room 815, 800 Independence Avenue, SW., Washington, DC 20591. Telephone (202) 267-9796, FAX (202) 267-5340, or e-mail at: george.soteropoulos@faa.gov.

SUPPLEMENTARY INFORMATION:

Background

It is believed that the minimum performance standard (MPS) prescribed in Appendix 1 of TSO-C23e for personnel parachute assemblies and components thereof, differs significantly from the version submitted for public comment. For that reason we are cancelling TSO-C23e to allow for further review and discussions with interested industry groups and associations to ensure safety through a coordinated agreed-upon MPS.

Issued in Washington, DC on November 19, 2008.
Susan J.M. Cabler,
Assistant Manager, Aircraft Engineering Division, Aircraft Certification Service.

[FR Doc. E8-28229 Filed 12-3-08; 8:45 am]

BILLING CODE 4910-13-M